DEPARTMENT OF EDUCATION

Application for New Awards; Expanding Opportunity Through Quality Charter Schools Program (CSP)—Grants to Charter Management Organizations for the Replication and Expansion of High-Quality Charter Schools

AGENCY: Office of Innovation and Improvement, Department of Education.

ACTION: Notice.

Overview Information:

CSP—Grants to Charter Management Organizations for the Replication and Expansion of High-Quality Charter Schools

Notice inviting applications for new awards for fiscal year (FY) 2017.

Catalog of Federal Domestic Assistance (CFDA) Number: 84.282M.

DATES:

Applications Available: January 13, 2017.

Date of Pre-Application Webinar: Tuesday, January 24, 2017, 1:00 p.m., Washington, DC time.

Deadline for Transmittal of Applications: February 27, 2017.

Deadline for Intergovernmental Review: April 28, 2017.

Full Text of Announcement

I. Funding Opportunity Description

Purpose of Program: The major purposes of the CSP are to expand opportunities for all students, particularly traditionally underserved students, to attend charter schools and meet challenging State academic standards; provide financial assistance for the planning, program design, and initial implementation of public charter schools; increase the number of high-quality charter schools available to students across the United States; evaluate the impact of charter schools on student achievement, families, and communities; share best practices between charter schools and other public schools; encourage States to provide facilities support to charter schools; and support efforts to strengthen the charter school authorizing process. Through CSP Grants to Charter Management Organizations for the Replication and Expansion of High-Quality Charter Schools (CFDA number 84.282M) (also referred to as Charter Management Organization, or CMO, grants), the Department provides funds to charter management organizations (CMOs) ¹ on a competitive basis to enable them to replicate or expand one or more high-quality charter schools. Grant funds may be used to expand the enrollment of one or more existing high-quality charter schools, or to replicate one or more new charter schools that are based on an existing, high-quality charter school model.

¹ Italicized terms are defined in the Definitions section of this notice.

Background

The CMO grant program is intended to support high-quality charter schools that are operated by high-performing CMOs seeking to broaden and increase their impact on student achievement. Since FY 2010, the Department has awarded new CMO grants each year (except in FY 2013),² which has resulted in a portfolio of high-quality CMOs using Federal funds to replicate and expand their successful charter school models to serve greater numbers of students, particularly educationally disadvantaged students.

² From FY 2010 through FY 2016, the Department's authority to use CSP funds to award grants to CMOs and other eligible entities for the replication and expansion of high-quality charter schools was provided through annual appropriations acts.

In December 2015, the CMO grant program was reauthorized under the Elementary and Secondary Education Act of 1965 (ESEA), as amended by the Every Student Succeeds Act of 2015 (ESSA) (20 U.S.C. 7221-7221j). This notice contains newly authorized priorities, definitions, application requirements, and selection criteria from the ESEA (as amended by the ESSA), as well as other priorities, definitions, application requirements, and selection criteria, to ensure that the Department's CMO grant portfolio continues to consist of high-quality charter schools operated by high-performing CMOs that are improving academic outcomes for all students, particularly educationally disadvantaged students. In particular, we continue to use the same absolute priority from previous competitions for serving a large percentage of low-income students. In addition, we include selection criteria that emphasize the applicant's success in operating more than one high-quality charter school and serving educationally disadvantaged students, and we continue to include a competitive preference priority for applicants that have not previously received funding under this program.

For FY 2017, we are establishing three competitive preference priorities. The first competitive preference priority is from the newly amended program statute, with a few minor changes to clarify the Department's goals.

Competitive Preference Priority 1—Promoting Diversity gives priority to applicants that plan to use CSP funds to operate or manage charter schools intentionally designed to be racially and socioeconomically diverse. An applicant addressing this priority is invited to discuss how the proposed design of its project will encourage approaches by charter schools that help bring together students of different backgrounds, including students from different racial and socioeconomic backgrounds, to attain the benefits that flow from a diverse student body. The applicant should ensure that those approaches are permissible under current law, including applicable civil rights laws.³

³ For information about how applicants can lawfully promote student body diversity, see the Department's December 2, 2011 “Guidance on the Voluntary Use of Race to Achieve Diversity and Avoid Racial Isolation in Elementary and Secondary Schools,” available at http://www2.ed.gov/ocr/docs/guidance-ese-201111.pdf.

The second competitive preference priority, School Improvement, focuses on applicants that have shown past success in turning around academically poor-performing schools and plan to use CMO grant funds to turn around academically poor-performing schools during the grant project period. Accordingly, this priority is intended both to reward and provide new incentives to high-performing CMOs for engaging in the difficult task of turning around our Nation's struggling public schools.

The third competitive preference priority is for novice applicants. In order to ensure that the CMO grant program is supporting a wide range of organizations, this priority provides additional points to applicants that have neither received a CSP Replication and Expansion of High-Quality Charter Schools ⁴ grant—either individually or as part of a group—at any point in the past nor received a discretionary grant from the Federal government in the previous five years.

⁴ The name of the competition in this notice has changed from previous years; from FY 2010 through FY 2016, the Department had the authority to make CMO grants under the Grants for Replication and Expansion of High-Quality Charter Schools competition.

This competition also includes an invitational priority that encourages applicants to conduct rigorous evaluations of practices within their charter schools that will, if well implemented, produce evidence that meets What Works Clearinghouse (WWC) Evidence Standards. The Department is committed both to increasing the number of schools that implement practices that are based on evidence and to building evidence of the effectiveness of a range of educational practices in order to identify educational practices that other schools or school systems can adopt to improve outcomes for their students (e.g., educator induction practices or positive behavioral interventions and supports). In addition, building and utilizing evidence of the effectiveness of various educational approaches is a key feature of the reauthorized program under the ESEA, as amended by the ESSA.

All charter schools receiving CSP funds, as outlined in section 4310(2)(G) of the ESEA (as amended by the ESSA), must comply with various non-discrimination laws, including the Age Discrimination Act of 1975, Title VI of the Civil Rights Act of 1964, Title IX of the Education Amendments of 1972, section 504 of the Rehabilitation Act of 1973, the Americans with Disabilities Act of 1990, section 444 of the General Education Provisions Act (GEPA), and part B of the Individuals with Disabilities Education Act (IDEA).

Priorities: This notice includes one absolute priority, three competitive preference priorities, and one invitational priority. We are establishing these priorities for the FY 2017 grant competition and any subsequent year in which we make awards from the list of unfunded applications from this competition, in accordance with section 437(d)(1) of GEPA, 20 U.S.C. 1232(d)(1).

Absolute Priority: This priority is an absolute priority. Under 34 CFR 75.105(c)(3), we consider only applications that meet this priority.

This priority is: Absolute Priority—Low-Income Demographic.

To meet this priority, an applicant must demonstrate that at least 60 percent of the students across all of the charter schools the applicant currently operates or manages are individuals from low-income families.

Competitive Preference Priorities: These priorities are competitive preference priorities. Under 34 CFR 75.105(c)(2)(i), we will award an additional three points to an application that meets Competitive Preference Priority 1, an additional five points to an application that meets Competitive Preference Priority 2, and an additional two points to an application that meets Competitive Preference Priority 3. The maximum total competitive preference priority points an application can receive for this competition is 10.

These priorities are:

Competitive Preference Priority 1—Promoting Diversity. (0 or 3 points).

This priority is for projects that will provide for the replication or expansion of high-quality charter schools that have an intentional focus on recruiting and retaining racially and socioeconomically diverse student bodies (see Section 4305(b)(5)(A) of the ESEA, as amended by the ESSA).

Note: For information on permissible ways to meet this priority, please refer to the joint guidance issued by the Department's Office for Civil Rights and the U.S. Department of Justice entitled, “Guidance on the Voluntary Use of Race to Achieve Diversity and Avoid Racial Isolation in Elementary and Secondary Schools” (www2.ed.gov/about/offices/list/ocr/docs/guidance-ese-201111.pdf).

Competitive Preference Priority 2—School Improvement through Turnaround Efforts. (0 or 5 points).

This priority is for applicants that both:

(a) Demonstrate past success in improving the academic performance of one or more academically poor-performing public schools by taking over the operation of the school or restarting the school as a charter school; and

(b) Propose to use CMO funds to restart as a charter school one or more academically poor-performing public schools during the project period, to do so by replicating a successful charter school model for which the applicant has provided evidence of success, and to do so by targeting a similar student population in the replicated charter school as was served by the academically poor-performing public school. In accordance with section 4310(2)(B) of the ESEA, as amended by the ESSA, students who are enrolled in the academically poor-performing public school at the time of restart are exempt from the charter school's lottery.

For purposes of this priority, academically poor-performing public schools may include, but are not limited to, persistently lowest-achieving schools, as defined in this notice and the final requirements for the School Improvement Grants (SIG) program under Title I of the ESEA (https://www.federalregister.gov/articles/2015/02/09/2015-02570/final-requirements-school-improvement-grants-title-i-of-the-elementary-and-secondary-education-act); and priority schools in States that exercised flexibility ⁵ under the ESEA, as amended by the No Child Left Behind Act of 2001 (NCLB) (see the Department's June 7, 2012 guidance entitled, “ESEA Flexibility,” at www.ed.gov/esea/flexibility, and the Office of Elementary and Secondary Education's December 18, 2015 Dear Colleague Letter at https://www2.ed.gov/policy/elsec/leg/essa/transition-dcl.pdf).

⁵ As of August 1, 2016, States may no longer exercise flexibility, except in the limited circumstances where they implemented interventions previously in priority schools under the SIG program. For additional information related to ESEA flexibility and interventions in priority schools, see section B of the Department's June 29, 2016 guidance entitled, “Transitioning to the Every Student Succeeds Act—Frequently Asked Questions,” at http://www2.ed.gov/policy/elsec/leg/essa/essafaqstransition62916.pdf.

Note: For applicants proposing to use CMO grant funds to replicate a high-quality charter school by restarting as a charter school one or more academically poor-performing public schools, the CMO's proposed charter school must be newly created and operating under a separate charter and governance than the academically poor-performing public school.

Competitive Preference Priority 3—Novice Applicant. (0 or 2 points).

This priority is for applications submitted by novice applicants.

Invitational Priority: This priority is an invitational priority. Under 34 CFR 75.105(c)(1), we do not give an application that meets this invitational priority any preference over other applications.

This priority is: Invitational Priority—Rigorous Evaluation of School Practices.

The Secretary is particularly interested in funding applications that demonstrate that the applicant is currently conducting, or will conduct, a rigorous independent evaluation of specific practices within the applicant's charter schools (e.g., positive behavioral interventions and supports or professional development practices, such as teacher coaching) through a quasi-experimental design study or randomized controlled trial that will, if well implemented, meet WWC Evidence Standards, and that other schools or school systems can adopt to improve outcomes for their students.

Definitions

The following definitions, where cited, are from 34 CFR 75.225 and 77.1 and the ESEA, as amended by the ESSA. We are establishing the remaining definitions for the FY 2017 grant competition and any subsequent year in which we make awards from the list of unfunded applications from this competition.

Ambitious means promoting continued, meaningful improvement for program participants or for other individuals or entities affected by the grant, or representing a significant advancement in the field of education research, practices, or methodologies. When used to describe a performance target, whether a performance target is ambitious depends upon the context of the relevant performance measure and the baseline for that measure. (34 CFR 77.1)

Baseline means the starting point from which performance is measured and targets are set. (34 CFR 77.1)

Charter management organization means a nonprofit organization that operates or manages a network of charter schools linked by centralized support, operations, and oversight. (Section 4310(3) of the ESEA, as amended by the ESSA)

Educationally disadvantaged students means students in the categories described in section 1115(c)(2) of the ESEA, as amended by the ESSA, which include children who are economically disadvantaged, students with disabilities, migrant students, English learners, neglected or delinquent students, and homeless students.

Expand, when used with respect to a high-quality charter school, means to significantly increase enrollment or add one or more grades to the high-quality charter school. (Section 4310(7) of the ESEA, as amended by the ESSA)

High-quality charter school means a charter school that—

(a) Shows evidence of strong academic results, which may include strong student academic growth, as determined by a State;

(b) Has no significant issues in the areas of student safety, financial and operational management, or statutory or regulatory compliance;

(c) Has demonstrated success in significantly increasing student academic achievement, including graduation rates where applicable, for all students served by the charter school; and

(d) Has demonstrated success in increasing student academic achievement, including graduation rates where applicable, for each of the subgroups of students, as defined in section 1111(c)(2), except that such demonstration is not required in a case in which the number of students in a group is insufficient to yield statistically reliable information or the results would reveal personally identifiable information about an individual student. (Section 4310(8) of the ESEA, as amended by the ESSA)

Individual from a low-income family means an individual who is determined by a State educational agency (SEA) or local educational agency (LEA) to be a child from a low-income family on the basis of (a) data used by the Secretary to determine allocations under section 1124 of the ESEA, (b) data on children eligible for free or reduced-price lunches under the Richard B. Russell National School Lunch Act, (c) data on children in families receiving assistance under part A of title IV of the Social Security Act, (d) data on children eligible to receive medical assistance under the Medicaid program under Title XIX of the Social Security Act, or (e) an alternate method that combines or extrapolates from the data in items (a) through (d) of this definition.

Logic model (also referred to as theory of action) means a well-specified conceptual framework that identifies key components of the proposed process, product, strategy, or practice (i.e., the active “ingredients” that are hypothesized to be critical to achieving the relevant outcomes) and describes the relationships among the key components and outcomes, theoretically and operationally. (34 CFR 77.1)

Novice applicant means—

(a) Any applicant for a grant from the Department that—

(1) Has never received a grant or subgrant under the program from which it seeks funding;

(2) Has never been a member of a group application, submitted in accordance with 34 CFR 75.127-75.129, that received a grant under the program from which it seeks funding; and

(3) Has not had an active discretionary grant from the Federal government in the five years before the deadline date for applications for new awards under the program.

(b) For purposes of paragraph (a)(3), a grant is active until the end of the grant's project or funding period, including any extensions of those periods that extend the grantee's authority to obligate funds. (34 CFR 75.225)

Performance measure means any quantitative indicator, statistic, or metric used to gauge program or project performance. (34 CFR 77.1)

Performance target means a level of performance that an applicant would seek to meet during the course of a project or as a result of a project. (34 CFR 77.1)

Persistently lowest-achieving school means, as determined by the State—

(a)(1) Any title I school in improvement, corrective action, or restructuring that—

(A) Is among the lowest-achieving five percent of title I schools in improvement, corrective action, or restructuring or the lowest-achieving five title I schools in improvement, corrective action, or restructuring in the State, whichever number of schools is greater; or

(B) Is a high school that has had a graduation rate as defined in 34 CFR 200.19(b) that is less than 60 percent over a number of years; and

(2) Any secondary school that is eligible for, but does not receive, title I funds that—

(A) Is among the lowest-achieving five percent of secondary schools or the lowest-achieving five secondary schools in the State that are eligible for, but do not receive, title I funds, whichever number of schools is greater; or

(B) Is a high school that has had a graduation rate as defined in 34 CFR 200.19(b) that is less than 60 percent over a number of years.

(b) To identify the lowest-achieving schools, a State must take into account both—

(1) The academic achievement of the “all students” group in a school in terms of proficiency on the State's assessments under section 1111(b)(3) of the ESEA in reading/language arts and mathematics combined; and

(2) The school's lack of progress on those assessments over a number of years for the “all students” group. (80 FR 7223)

Quasi-experimental design study means a study using a design that attempts to approximate an experimental design by identifying a comparison group that is similar to the treatment group in important respects. These studies, depending on design and implementation, can meet WWC Evidence Standards with reservations (but not WWC Evidence Standards without reservations). (34 CFR 77.1)

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet WWC Evidence Standards without reservations. (34 CFR 77.1)

Replicate, when used with respect to a high-quality charter school, means to open a new charter school, or a new campus of a high-quality charter school, based on the educational model of an existing high-quality charter school, under an existing charter or an additional charter, if permitted or required by State law. (Section 4310(9) of the ESEA, as amended by the ESSA)

What Works Clearinghouse (WWC) Evidence Standards means the standards set forth in the What Works Clearinghouse Procedures and Standards Handbook (Version 3.0, March 2014), which can be found at the following link://ies.ed.gov/ncee/wwc/DocumentSum.aspx?sid=19. (34 CFR 77.1)

Waiver of Proposed Rulemaking: Under the Administrative Procedure Act (5 U.S.C. 553), the Department generally offers interested parties the opportunity to comment on proposed priorities, selection criteria, definitions, and requirements. Section 437(d)(1) of GEPA, however, allows the Secretary to exempt from rulemaking requirements regulations governing the first grant competition under a new or substantially revised program authority. This is the first grant competition for this program under section 4305(b) of the ESEA, as amended by the ESSA, and, therefore, this competition qualifies for this exemption. In order to ensure timely grant awards, the Secretary has decided to forgo public comment on the priorities, requirements, definitions, and selection criteria in this notice in accordance with section 437(d)(1) of GEPA. These priorities, requirements, definitions, and selection criteria will apply to grants awarded under this competition in FY 2017 and any subsequent year in which we make awards from the list of unfunded applications from this competition.

Program Authority: Section 4305(b) of the ESEA, as amended by the ESSA.

Applicable Regulations: (a) The Education Department General Administrative Regulations (EDGAR) in 34 CFR parts 75, 76, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

II. Award Information

Type of Award: Discretionary grants.

Estimated Available Funds: For FY 2017, the Administration has requested $350,000,000 under the CSP and authority to use up to $100,000,000 of CSP funds for CMO awards. We intend to use an estimated $57,000,000 for new awards under this competition and may use FY 2017 funds to support multiple years of a grant project for one or more grantees. The actual level of funding, if any, depends on final congressional action. However, we are inviting applications now to allow enough time to complete the grant process if Congress appropriates funds for this program.

Contingent upon the availability of funds and the quality of applications, we may make additional awards in FY 2018 from the list of unfunded applications from this competition.

Estimated Range of Awards: $600,000-$3,500,000 per year.

Estimated Average Size of Awards: $2,000,000 per year.

Maximum Award: See Reasonable and Necessary Costs in section III.4.(a) for information regarding the maximum amount of funds that may be awarded per new school seat and per new school.

Estimated Number of Awards: 10-20 awards.

Note: The Department is not bound by any estimates in this notice. The estimated range and average size of awards are based on a single 12-month budget period.

Project Period: Up to 60 months.

III. Eligibility Information

1. Eligible Applicants: Charter management organizations. Eligible applicants may apply individually or as part of a group or consortium.

2. Audits: (a) All grantees must provide to the Department their most recent independent audits of the CMO's financial statements prepared in accordance with generally accepted accounting principles, and all grantees must continue to provide independent, annual audits of their financial statements prepared in accordance with generally accepted accounting principles each year of the grant.

(b) All grantees must ensure that charter schools operated or managed by the applicant conduct independent, annual audits of their financial statements prepared in accordance with generally accepted accounting principles, and ensure that any such audits are publicly reported.

3. Cost Sharing or Matching: This competition does not require cost sharing or matching.

4. Other: (a) Reasonable and Necessary Costs: The Secretary may elect to impose maximum limits on the amount of grant funds that may be awarded per charter school replicated, per charter school expanded, or per new school seat created.

For this competition, the maximum limit of grant funds that may be awarded per new school seat in a new charter school is $3,400, including a maximum limit per replicated charter school of $900,000. The maximum limit per new school seat in a charter school that is expanding its enrollment is $1,700, including a maximum limit per expanded school of $900,000.

Note: Applicants must ensure that all costs included in the proposed budget are reasonable and necessary in light of the goals and objectives of the proposed project. Any costs determined by the Secretary to be unreasonable or unnecessary will be removed from the final approved budget.

(b) Other CSP Grants: A charter school that previously has received CSP funds for replication or expansion, or for planning or initial implementation of a charter school under CFDA number 84.282A or 84.282B (as administered under the ESEA, as amended by the NCLB), may not use funds under this grant for the same purpose. However, such charter school may be eligible to receive funds under this competition to expand the charter school beyond the existing grade levels or student count.

Likewise, a charter school that receives funds under this competition is ineligible to receive funds for the same purpose under section 4303(b)(1) of the ESEA, as amended by the ESSA, including opening and preparing for the operation of a new charter school, opening and preparing for the operation of a replicated high-quality charter school, or expanding a high-quality charter school (i.e., CFDA number 84.282A or 84.282B).

(c) Costs for Evaluation: In accordance with 34 CFR 75.590, CMO grant funds may be used to cover post-award costs associated with an evaluation described in response to the invitational priority or Selection Criterion (c) of this notice, provided that such costs are reasonable and necessary to meet the objectives of the approved project.

IV. Application and Submission Information

1. Address to Request Application Package:

Eddie Moat, U.S. Department of Education, 400 Maryland Avenue SW., Room 4W259, Washington, DC 20202-5970. Telephone: (202) 401-2266 or by email: charterschools@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2.a. Content and Form of Application Submission: Requirements concerning the content and form of an application, together with the forms you must submit, are in the application package for this competition.

Page Limit: The application narrative (Part III of the application) is where you, the applicant, address the priorities, selection criteria, and application requirements that reviewers use to evaluate your application. We recommend that you limit the application narrative to no more than 60 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative.

b. Submission of Proprietary Information: Given the types of projects that may be proposed in applications for the CMO grant competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you feel is exempt from disclosure under Exemption 4. In the appropriate Appendix section of your application, under “Other Attachments Form,” please list the page number or numbers on which we can find this information. For additional information please see 34 CFR 5.11(c).

3. Submission Dates and Times:

Applications Available: [INSERT DATE OF PUBLICATION IN THE FEDERAL REGISTER].

Date of Pre-Application Webinar: The Department will hold a pre-application meeting via Webinar for prospective applicants on January 24, 1:00 p.m., Washington, DC, time. Individuals interested in attending this meeting are encouraged to pre-register by emailing their name, organization, and contact information with the subject heading “PRE-APPLICATION MEETING” to CharterSchools@ed.gov. There is no registration fee for attending this meeting.

For further information about the pre-application meeting, contact Eddie Moat, U.S. Department of Education, 400 Maryland Avenue SW., Room 4W259, Washington, DC 20202-5970. Telephone: (202) 401-2266 or by email: charterschools@ed.gov.

Deadline for Transmittal of Applications: February 27, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: [INSERT DATE 105 DAYS AFTER DATE OF PUBLICATION IN THE FEDERAL REGISTER].

4. Intergovernmental Review: This program is subject to Executive Order 12372 and the regulations in 34 CFR part 79. Information about Intergovernmental Review of Federal Programs under Executive Order 12372 is in the application package for this competition.

5. Funding Restrictions: Grantees under this program must use the grant funds to replicate or expand the charter school model or models for which the applicant has presented evidence of success. Grant funds must be used to carry out allowable activities, as described in section 4303(h) of the ESEA, as amended by the ESSA, which include—

(a) Preparing teachers, school leaders, and specialized instructional support personnel, including through paying costs associated with—

(i) Providing professional development; and

(ii) Hiring and compensating, during the applicant's planning period specified in the application for funds, one or more of the following:

(A) Teachers,

(B) School leaders, and

(C) Specialized instructional support personnel.

(b) Acquiring supplies, training, equipment (including technology), and educational materials (including developing and acquiring instructional materials).

(c) Carrying out necessary renovations to ensure that a new school building complies with applicable statutes and regulations, and minor facilities repairs (excluding construction).

(d) Providing one-time, startup costs associated with providing transportation to students to and from the charter school.

(e) Carrying out community engagement activities, which may include paying the cost of student and staff recruitment.

(f) Providing for other appropriate, non-sustained costs related to the replication or expansion of high-quality charter schools when such costs cannot be met from other sources.

A grantee may use up to 20 percent of grant funds for initial operational costs associated with the expansion or improvement of the grantee's oversight or management of its charter schools, provided that (i) the specific charter schools being replicated or expanded under the grant are the intended beneficiaries of such expansion or improvement; (ii) such expansion or improvement is intended to improve the grantee's ability to manage or oversee the charter schools replicated or expanded under the grant; and (iii) the costs cannot be met from other sources.

We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements. Applications for grants under this competition must be submitted electronically unless you qualify for an exception to this requirement in accordance with the instructions in this section.

a. Electronic Submission of Applications.

Applications for grants under the CSP Grants to Charter Management Organizations for Replication and Expansion of High-Quality Charter Schools, CFDA number 84.282M, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for CSP Grants to Charter Management Organizations for Replication and Expansion of High-Quality Charter Schools at www.Grants.gov You must search for the downloadable application package for this competition by the CFDA number. Do not include the CFDA number's alpha suffix in your search (e.g., search for 84.282, not 84.282M).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Eddie Moat, U.S. Department of Education, 400 Maryland Avenue SW., Room 4W259, Washington, DC 20202-5970. FAX: (202) 401-2266.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.282M, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.282M, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Application Requirements: Applications for CSP CMO grant funds must address the following application requirements. An applicant must respond to requirement (a) in a stand-alone section of the application or in an appendix. For all other application requirements, an applicant may choose to respond in the context of its responses to the selection criteria in section V.2 of this notice.

(a) Demonstrate that the applicant currently operates or manages more than one charter school. For purposes of this competition, multiple charter schools are considered to be separate schools if each school—

(i) meets the definition of “charter school” under section 4310(2) of the ESEA, as amended by the ESSA, and

(ii) is treated as a separate school by its authorized public chartering agency and the State, including for purposes of accountability and reporting under title I of the ESEA, as amended.

(b) For each charter school currently operated or managed by the applicant, provide—

1. Student assessment results for all students and for each subgroup of students described in section 1111(c)(2) of the ESEA, as amended by the NCLB; ⁶

⁶ Section 5(e)(1)(B) of the ESSA states that “subsections (c) and (d) of section 1111 of the [ESEA] (20 U.S.C. 6311), as amended by [the ESSA], shall take effect beginning with school year 2017-2018.” For purposes of this competition, “section 1111(c)(2)” refers to section 1111(c)(2) of the ESEA, as amended by the NCLB.

2. Attendance and student retention rates for the most recently completed school year and, if applicable, the most recent available four-year adjusted cohort graduation rates and extended year adjusted cohort graduation rates;

3. Suspension and expulsion rates for the past three years for each subgroup of students described in section 1111(c)(2) of the ESEA, as amended by the NCLB; and

4. Information on any significant compliance and management issues encountered within the last three school years by any school operated or managed by the eligible entity, including in the areas of student safety and finance.

(c) Provide information, including information regarding how any compliance issues were resolved, on any charter schools operated or managed by the applicant that have been closed; have had their charter(s) revoked due to problems with statutory or regulatory compliance, including compliance with sections 4310(2)(G) and (J) of the ESEA, as amended by the ESSA; have had their affiliation with the applicant revoked or terminated, including through voluntary disaffiliation; or have experienced significant problems with statutory or regulatory compliance, including compliance with sections 4310(2)(G) and (J) of the ESEA, as amended by the ESSA, that could lead to revocation of the school's charter(s).

(d) Provide a complete logic model for the grant project. The logic model must include the applicant's objectives for implementing a high-quality charter school program with funding under this competition, including the number of high-quality charter schools the applicant proposes to replicate or expand.

(e) Describe the educational program that the applicant will implement in each replicated or expanded charter school, including—

(1) Information on how the program will enable all students to meet the State's challenging academic and performance standards;

(2) The grade levels or ages of students who will be served; and

(3) The instructional practices that will be used, including whether the applicant currently operates or is proposing to replicate or expand a single-sex charter school or coeducational charter school that provides a single-sex class or extracurricular activity (collectively referred to as a “single-sex educational program”).

Note: Prior to receiving an award, an applicant currently operating or proposing to replicate or expand a charter school that provides a single-sex educational program must demonstrate that the existing and proposed single-sex educational programs are in compliance with applicable nondiscrimination laws, including the Equal Protection Clause of the U.S. Constitution (as interpreted in United States v. Virginia, 518 U.S. 515 (1996), and other cases) and Title IX of the Education Amendments of 1972 (20 U.S.C. 1681, et seq.) and implementing regulations, including 34 CFR 106.34. Such an applicant likely will be required to provide fact-specific information about the single-sex educational program(s) within specified timeframes. In addition, special conditions related to compliance with applicable nondiscrimination laws are likely to be placed on any grant awarded to an applicant that operates or proposes to replicate or expand a charter school that provides a single-sex educational program. Please see the application package for additional information related to the requirements for single-sex educational programs.

(f) Describe how the applicant currently operates or manages the charter schools for which it has presented evidence of success, and how the proposed replicated or expanded charter schools will be operated or managed. Include a description of central office functions, relationship with charter holder(s) if other than the applicant, governance, daily operations, financial management, human resources management, and instructional management. If applying as a group or consortium, describe the roles and responsibilities of each member of the group or consortium and how each member will contribute to this project.

(g) Describe how the operation of each replicated or expanded charter school will be sustained after the grant has ended, which shall include a multi-year financial and operating model for the applicant.

(h) Describe how the applicant will solicit, consider, and include in governance input from parents and other members of the community on the implementation and operation of each replicated or expanded charter school.

(i) Describe how the applicant will ensure that each replicated or expanded charter school will recruit and enroll students, including students with disabilities, English learners, and other educationally disadvantaged students, and describe the lottery and enrollment procedures that will be used for each replicated or expanded charter school if more students apply for admission than can be accommodated. For applicants that propose to use a weighted lottery, describe how the weighted lottery complies with section 4303(c)(3)(A) of the ESEA, as amended by the ESSA.

(j) Describe how the applicant will ensure that all eligible students with disabilities receive a free appropriate public education in accordance with Part B of the IDEA.

(k) Describe how the proposed project will assist educationally disadvantaged students in mastering State academic content standards and State student academic achievement standards.

(l) Describe the applicant's planned activities and expenditures of Federal grant funds.

(m) Include a request and justification for any waivers of Federal statutory or regulatory requirements that the applicant believes are necessary for the successful operation of its replicated or expanded charter schools.

2. Selection Criteria. The maximum possible score for addressing all of the criteria in this section is 100 points. The maximum possible score for addressing each criterion is indicated in parentheses following the criterion.

In evaluating an application, the Secretary considers the following criteria:

(a) Quality of the eligible applicant. (45 points)

1. The degree to which the applicant has demonstrated success in increasing academic achievement, including graduation rates where applicable, for all students and for each of the subgroups of students described in section 1111(c)(2) of the ESEA, as amended by the NCLB, attending the charter schools the applicant operates or manages (15 points).

2. The extent to which the academic achievement results (including annual student performance on statewide assessments and annual student attendance and retention rates, and where applicable and available, student academic growth, high school graduation rates, college attendance rates, and college persistence rates) for educationally disadvantaged students served by the charter schools operated or managed by the applicant have exceeded the average academic achievement results for such students in the State (15 points).

3. The extent to which charter schools operated or managed by the applicant have not been closed; have not had a charter revoked due to noncompliance with statutory or regulatory requirements; have not had their affiliation with the applicant revoked or terminated, including through voluntary disaffiliation; have not had any significant issues in the area of financial or operational management; have not experienced significant problems with statutory or regulatory compliance that could lead to revocation of the school's charter; and have not had any significant issues with respect to student safety (15 points).

(b) Contribution in assisting educationally disadvantaged students. (25 points)

The significance of the contribution the proposed project will make in expanding educational opportunities for educationally disadvantaged students and enabling those students to meet challenging State academic standards. In determining the significance of the contribution the proposed project will make, the Secretary considers:

1. The extent to which charter schools currently operated or managed by the applicant serve educationally disadvantaged students, including students with disabilities and English learners, at rates comparable to surrounding public schools (10 points); and

2. The quality of the plan to ensure that the charter schools the applicant proposes to replicate or expand will recruit and enroll educationally disadvantaged students (15 points).

(c) Quality of the evaluation plan for the proposed project. (10 points)

In determining the quality of the evaluation plan for the proposed project, the Secretary considers the alignment of the evaluation plan to the logic model for the proposed grant project and the extent to which the methods of evaluation include the use of objective performance measures that are clearly related to the intended outcomes of the proposed grant project articulated in the applicant's response to application requirement (c) and will produce quantitative and qualitative data by the end of the performance period.

(d) Quality of the management plan and personnel. (20 points)

In determining the quality of the management plan and personnel to replicate or expand high-quality charter schools under the proposed project, the Secretary considers—

(1) The adequacy of the management plan to achieve the objectives of the proposed project on time and within budget, including clearly defined responsibilities, timelines, and milestones for accomplishing project tasks (5 points);

(2) The qualifications, including relevant training and experience, of the project director, chief executive officer or organization leader, and key project personnel, especially in managing projects of the size and scope of the proposed project (10 points); and

(3) The ability of the applicant to sustain the operation of the replicated or expanded charter schools after the grant has ended, as demonstrated by the multi-year financial and operating model included in the applicant's response to application requirement (g) (5 points).

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

4. Risk Assessment and Special Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that, over the course of the project period, may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: (a) The primary goal of the CSP is to support the creation and development of a large number of high-quality charter schools that are free from State or local rules that inhibit flexible operation, are held accountable for enabling students to reach challenging State performance standards, and are open to all students. The Secretary has two performance indicators to measure progress towards this goal: (1) The number of charter schools in operation around the Nation, and (2) the percentage of fourth- and eighth-grade charter school students who are achieving at or above the proficient level on State assessments in mathematics and reading/language arts. Additionally, the Secretary has established the following measure to examine the efficiency of the CSP: Federal cost per student in implementing a successful school (defined as a school in operation for three or more consecutive years).

(b) Project-Specific Performance Measures. Applicants must propose project-specific performance measures and performance targets consistent with the objectives of the proposed project. Applications must provide the following information as directed under 34 CFR 75.110(b) and (c):

(1) Performance measures. How each proposed performance measure would accurately measure the performance of the project and how the proposed performance measure would be consistent with the performance measures established for the program funding the competition.

(2) Baseline data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit an annual performance report with information that is responsive to these performance measures.

5. Continuation Awards: In making a continuation award under 34 CFR 75.253, the Secretary considers, among other things, whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

6. Project Director's Meeting: Applicants approved for funding under this competition must attend a two-day meeting for project directors at a location to be determined in the continental United States during each year of the project. Applicants may include the cost of attending this meeting in their proposed budgets.

VII. Agency Contact

FOR FURTHER INFORMATION CONTACT: Eddie Moat, U.S. Department of Education, 400 Maryland Avenue SW., Room 4W259, Washington, DC 20202-5970. Telephone: (202) 401-2266 or by email: charterschools@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: January 10, 2017.
Margo Anderson,
Acting Assistant Deputy Secretary for Innovation and Improvement.

[FR Doc. 2017-00748 Filed 1-12-17; 8:45 am]

BILLING CODE 4000-01-P